DEPARTMENT OF AGRICULTURE

Forest Service

Kootenai National Forest; Montana; Pilgrim Creek Timber Sale Project

AGENCY: Forest Service, Agriculture (USDA).

ACTION: Notice of intent to prepare a supplemental environmental impact statement.

SUMMARY: The USDA Forest Service is giving notice of its intent to prepare a supplemental environmental impact statement (SEIS) for the Pilgrim Creek Timber Sale Project on the Cabinet Ranger District of the Kootenai National Forest, in Montana. Forest Supervisor Chadwick Benson plans to prepare a SEIS to update assumptions related to closed roads barrier effectiveness, in alignment with the monitoring data that has been reported and incorporates results of Endangered Species Act consultation consistent with Case No. 9:18-cv-00067-DWM Memorandum and Decision Order (October 3, 2019). The environmental analysis will follow 36 CFR 220 (rescinded in 2025 by 90 FR 29632). The original project was developed using 36 CFR 220 regulations. The Forest has chosen to complete the SEIS using the same regulations as the original EIS.

DATES: There is no comment period at this time. The next opportunity for public input will be when the draft SEIS is published. The draft SEIS is expected November 2025; the comment period for the draft SEIS will be 45 days from the date the Environmental Protection Agency publishes the notice of availability in the Federal Register. The final SEIS is expected in November 2026.

FOR FURTHER INFORMATION CONTACT: Michael Feiger, Cabinet District Ranger, michael.feiger@usda.gov, phone:406-827-0714.

Individuals who are deaf, hard of hearing, or have a speech disability may call 711 to reach the Telecommunications Relay Service and then provide the phone number of the person named as a point of contact for further information.

SUPPLEMENTARY INFORMATION: The SEIS will focus on the portions of the project in the Tobacco and Clark Fork Bear Out of Recovery Zone (BORZ) units based on current monitoring data and open road miles assessing effects to grizzly bears. The Pilgrim Creek Timber Sale Project analysis evaluated the potential effects of five alternatives, including no action and four action alternatives. The record of decision was signed on May 7, 2013. The SEIS will update information related to closed roads barrier effectiveness including monitoring data that has been reported and incorporate results of the Endangered Species Act consultation.

Purpose and Need for Action

The purpose and need for action are to maintain and increase forest resilience to insects, decrease disease and disturbance by increasing age-class diversity in lodgepole pine stands, improve growing conditions and favoring root disease resistant species in mixed conifer stands affected by root disease, and improve big game forage production while providing for the local economy through commercial timber harvest.

Proposed Action

The Kootenai National Forest proposes to complete remaining activities previously authorized by the May 2013 record of decision including:

• Timber harvest—11 units (approximately 219 acres).

• Prescribed burning—19 burn units (approximately 4,564 acres).

• Planting—Required 30 acres; species diversity 232 acres; post-harvest up to 2019 acres.

• Road storage after project implementation (stabilize and berm install)—1 gate removal; 2 berm installs for 2 roads; approximately 4.7 miles.

Preliminary Alternatives

Four action alternatives, in addition to the no action alternative, were considered. Action alternatives would meet the purpose and need of this project. Alternative 3 is the preferred alternative and was authorized by the record of decision (May 2013). Alternatives 3 and 4 are the environmentally preferable alternatives.

Expected Impacts

Effectiveness of barriers on closed roads within the Clark Fork and Tobacco BORZ units will be evaluated. The supplemental environmental impact statement will update assumptions related to closed road barrier effectiveness in alignment with the monitoring data that has been reported and incorporate results of consultation.

Responsible Official

Chadwick Benson, Kootenai Forest Supervisor, Kootenai National Forest, 31374 U.S. Hwy. 2, Libby, MT 59923.

Scoping and Draft SEIS Comment Process

This project was originally initiated in 2010 with the scoping of the proposed action. In 2011 public scoping was again initiated in reference to the opening sizes exceeding 40 acres and the requirement for a project specific Forest Plan amendment related to open road density in areas managed for big game summer range. Next, on March 23, 2012, a notice of intent was published in the Federal Register. The following year, a notice of availability was published in the Federal Register on February 8, 2013, and started a 45-day comment period. There will be no scoping conducted for this supplemental environmental impact statement (SEIS). The scope of the Pilgrim Creek Timber Sale Project final EIS (May 2013) established the scope for this SEIS.

A public review and comment opportunity on the draft SEIS will be announced in the Federal Register and on the Kootenai National Forests' project website, as well as other local media. Please visit the Pilgrim Creek Timber Sale Project web page at: https://www.fs.usda.gov/r01/kootenai/projects/31645.

Nature of Decision To Be Made

Based upon the updated BORZ consultation, the responsible official will decide whether alternative 3 as set forth in the May 2013 record of decision will continue to be implemented.

Beattra Wilson,
Associate Deputy Chief State, Private, and Tribal Forestry, National Forest System.

[FR Doc. 2025-17663 Filed 9-11-25; 8:45 am]

BILLING CODE 3411-15-P